DEPARTMENT OF ENERGY

Federal Energy Regulatory Commission

Notice of Staff Attendance at North American Electric Reliability Corporation Standards Committee Teleconference, Subcommittee Meeting, and Webinar

The Federal Energy Regulatory Commission hereby gives notice that members of the Commission and/or Commission staff may attend the following meetings:

North American Electric Reliability Corporation: Standards Committee Teleconference, WebEx

May 15, 2024 | 1:00 p.m.-3:00 p.m. Eastern

Further information regarding this meeting and how to register to join may be found at: https://www.nerc.com/pa/Stand/Lists/stand/DispForm.aspx?ID=2084.

North American Electric Reliability Corporation: Inverter-Based Resource Performance Subcommittee Meeting, WebEx

May 16, 2024 | 1:00 p.m.-4:00 p.m. Eastern

Further information regarding this meeting and how to join remotely may be found at: https://www.nerc.com/pa/RAPA/Lists/RAPA/DispForm.aspx?ID=656.

North American Electric Reliability Corporation: Industry Advisory Board Introduction Webinar, WebEx

May 22, 2024 | 1:00 p.m.-2:30 p.m. Eastern

Further information regarding this meeting and how to register to join may be found at: https://www.nerc.com/pa/RAPA/Lists/RAPA/DispForm.aspx?ID=680.

The discussions at the meetings, which are open to the public, may address matters at issue in the following Commission proceedings:

Docket No. RR24-2-000—North American Electric Reliability Corporation

For further information, please contact Leigh Anne Faugust (202) 502-6396 or leigh.faugust@ferc.gov.

Dated: May 9, 2024.
Debbie-Anne A. Reese,
Acting Secretary.

[FR Doc. 2024-10676 Filed 5-15-24; 8:45 am]

BILLING CODE 6717-01-P